DEPARTMENT OF COMMERCE

Bureau of the Census

[Docket Number: 180920854-8854-01]

Suspension of the Geographically Updated Population Certification Program for Places Incorporating or Annexing Between Censuses

AGENCY: Bureau of the Census, Department of Commerce.

ACTION: Notice of suspension of program.

SUMMARY: This document serves as notice to state and local governments and to other federal agencies that beginning on January 1, 2019, the Bureau of the Census (Census Bureau) will suspend the Geographically Updated Population Certification Program for three years—the year preceding the decennial census, the decennial census year, and the year following it—to accommodate the 2020 Census operation. During this time, the Census Bureau will not provide the operations necessary to determine the updated April 1, 2010 census population and housing unit counts for entities that: Annex territory; incorporate or organize as counties; or incorporate or organize as boroughs, cities, towns, villages, townships, or other general purpose governments. However, the Census Bureau will consider all requests for population and housing count updates received in writing before January 1, 2019.

DATES: As of January 1, 2019, the Geographically Updated Population Certification Program will be suspended. It will remain suspended until December 31, 2021.

FOR FURTHER INFORMATION CONTACT: Mr. Darryl Cohen, Population Division, U.S. Census Bureau, 4600 Silver Hill Road, Washington, DC 20233, telephone (301) 763-2419, email Darryl.T.Cohen@census.gov.

SUPPLEMENTARY INFORMATION: The Census Bureau first began to make updated decennial census count determinations to reflect geographic boundary changes in 1972 in response to the requests of local governments to establish eligibility for participation in the General Revenue Sharing Program, authorized under Public Law 92-512. At that time, the Census Bureau established a fee-for-service program enabling entities with annexations to obtain updated decennial census population counts that reflected the population living in the annexed areas. The Census Bureau also received funding from the U.S. Department of the Treasury to make those determinations for larger annexations that met prescribed criteria and for new incorporations. The General Revenue Sharing Program ended on September 30, 1986, but the certification program continued into 1988 with support for the Census Bureau. The program was suspended to accommodate the 1990 Census operations and resumed in 1992. The Census Bureau supported the program through fiscal year 1995 for cities with large annexations and through fiscal year 1996 for new incorporated places. The program was continued on a fee-for-service basis only until June 1, 1998, at which time it was suspended for the 2000 Census (see the Federal Register, 63 FR 27706, May 20, 1998). In 2002, the program was resumed and has since been referred to as the Geographically Updated Population Certification Program or GUPCP (see the Federal Register, 67 FR 72095, December 4, 2002). As was the case for two previous censuses, the program was suspended to accommodate the 2010 Census operations (see the Federal Register, 72 FR 46602, August 21, 2007). The suspension began on January 1, 2008 and ended on December 31, 2012 (see the Federal Register, 78 FR 54863, September 6, 2013).

The Census Bureau is suspending the program for the year immediately preceding, the year of, and year following the 2020 Census to permit allocation of necessary resources to the decennial census. However, all requests for population and housing count updates received before January 1, 2019 will be considered. The Census Bureau will announce in a future Federal Register notice the date that the program will resume. The Census Bureau plans to resume the program in the year 2022, after 2020 Census data become available, for those entities that desire the service provided that any and all costs associated with this work are borne by the local governmental entity.

Authority to continue this program on a fee-for-service basis is contained in Title 13, United States Code, Section 8.

Dated: October 15, 2018.
Ron S. Jarmin,
Deputy Director, Performing the Non-Exclusive Functions and Duties of the Director, Bureau of the Census.

[FR Doc. 2018-22823 Filed 10-18-18; 8:45 am]

BILLING CODE 3510-07-P